DEPARTMENT OF AGRICULTURE

Food Safety and Inspection Service

[Docket No. 05-022N]

Codex Alimentarius Commission: 28th Session of the Codex Alimentarius Commission

AGENCY: Office of the Under Secretary for Food Safety, USDA.

ACTION: Notice of public meeting and request for comments.

SUMMARY: The Office of the Under Secretary for Food Safety, U.S. Department of Agriculture (USDA) is sponsoring a public meeting on June 9, 2005. The objective of the public meeting is to provide information and receive public comments on agenda items and draft United States' positions that will be discussed at the 28th Session of the Codex Alimentarius Commission (CAC) to be held in Rome, Italy, July 4-9, 2005. The Under Secretary for Food Safety recognizes the importance of providing interested parties with the opportunity to obtain background information on the 28th Session of CAC and to address items on the agenda.

DATES: The public meeting is scheduled for Thursday, June 9, 2005, from 1 p.m. to 4 p.m.

ADDRESSES: The public meeting will be held in Room 107A, Whitten Building, U.S. Department of Agriculture, 1400 Independence Avenue, SW., Washington, DC. The Codex documents pertaining to the agenda items for the 28th CAC Session, are accessible via the World Wide Web at the following address: http://www.codexalimentarius.net/current.asp. To submit comments on this notice, please send them, to the FSIS Docket Clerk and reference Docket #05-022N. All comments submitted in response to this notice will be available for public inspection in the Docket Clerk's Office between 8:30 a.m. and 4:30 p.m., Monday through Friday.

FOR FURTHER INFORMATION CONTACT: F. Edward Scarbrough, Ph.D., U.S. Manager for Codex, U.S. Codex Office, FSIS, Room 4861, South Agriculture Building, 1400 Independence Avenue SW., Washington, DC 20250, Telephone (202) 205-7760; Fax: (202) 720-3157; Electronic mail: ed.scarbrough@fsis.usda.gov. Persons requiring a sign language interpreter or other special accommodations should notify Dr. Scarbrough at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, the Food and Drug Administration (FDA), and the Environmental Protection Agency (EPA) manage and carry out U.S. Codex activities.

Issues To Be Discussed at the Public Meeting

The Office of the Under Secretary for Food Safety, U.S. Department of Agriculture (USDA) is sponsoring a public meeting on June 9, 2005. The objective of the public meeting is to provide information and receive public comments on agenda items and draft United States' positions that will be discussed at the 28th Session of the Codex Alimentarius Commission (CAC) to be held in Rome, Italy, July 4-9, 2005. The Under Secretary for Food Safety recognizes the importance of providing interested parties with the opportunity to obtain background information on the 28th Session of CAC and to address items on the agenda. The following items from the Draft Provisional Agenda for the 28th Session of the CAC will be discussed at the public meeting:

(1) Procedural Matters

(A) Amendments to the Procedural Manual

(i) Amendments to the Rules of Procedure

(ii) Other amendments to the Procedural Manual

(2) Codex Standards and Related Texts

(A) Draft Standards and Related Texts at Step 8 of the Procedure (including those submitted at Step 5 with a recommendation to omit Steps 6 and 7 and those submitted at Step 5 of the Accelerated Procedure)

(B) Proposed Draft Standards and Related Texts at Step 5

(C) Withdrawal or Revocation of existing Codex Standards and Related Texts

(D) Proposals for the Elaboration of new Standards and Related Texts and for the Discontinuation of Work

(3) Program and Budgetary Matters

(A) Financial and Budgetary Matters—Proposed Budget 2006/2007

(B) Strategic Planning of the Codex Alimentarius Commission

(C) Proposed Schedule of Codex Meetings 2005-2007

(4) Policy and General Matters

(A) Implementation of the Joint FAO/WHO Evaluation of the Codex Alimentarius and other FAO and WHO Work on Food Standards (including the Review of Codex Committee Structure and Mandates of Codex Committees and Task Forces)

(B) Matters arising from the Reports of Codex Committees and Task Forces

(C) Relations between the Codex Alimentarius Commission and other International Organizations

(D) FAO/WHO Project and Trust Fund for Enhanced Participation in Codex

(E) Other Matters arising from FAO and WHO

(5) Elections and Appointments

(A) Appointment of Regional Coordinators

(B) Election of Chairperson and Vice-Chairpersons and Election of Members of the Executive Committee

(C) Designation of Countries responsible for Appointing the Chairpersons of Codex Committees and Task Forces

These issues and draft United States' positions on these issues will be described and discussed, and attendees will have the opportunity to pose questions and offer comments. Comments on the issues and draft positions should be mailed or sent electronically to the U.S. Codex Manager (see FOR FURTHER INFORMATION CONTACT). Please state that your comments relate to CAC activities and specify which issues your comments address.

Additional Public Notification

Public awareness of all segments of rulemaking and policy development is important. Consequently, in an effort to ensure that the public and, in particular, minorities, women, and persons with disabilities are aware of this notice, FSIS will announce it on-line through the FSIS web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update is available on the FSIS web page. Through Listserv and the web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC, on May 26, 2005.
F. Edward Scarbrough,
U.S. Manager for Codex Alimentarius.

[FR Doc. 05-10876 Filed 5-31-05; 8:45 am]

BILLING CODE 3410-DM-P